DEPARTMENT OF ENERGY

Federal Energy Regulatory Commission

[Docket No. PL05-7-000]

Capacity Markets in the PJM Region; Notice of Technical Conference

May 19, 2005.

A technical conference will be held June 16, 2005, to discuss the capacity market construct currently in use in the PJM Interconnection, L.L.C. (PJM) region. The technical conference is intended to provide a forum through which Federal and State regulators and participants in the PJM market may come to a common understanding of the current PJM capacity situation, the problems perceived in the market and what deficiencies, if any, exist in the current PJM market construct that contribute to, or do not properly address, those perceived problems, and potential alternative solutions.

The conference will be held from 9 a.m. to 5 p.m. (e.d.t.) in the meeting room of the Federal Energy Regulatory Commission, 888 First St., NE., Washington, DC 20426. Members of the Federal Energy Regulatory Commission, state public utilities commissions and their respective staffs are expected to participate. The Commission will issue a supplemental notice with the detailed agenda prior to the conference.

The conference is open for the public to attend. Transcripts of the conference will be immediately available from Ace Reporting Company (202-347-3700 or 1-800-336-6646) for a fee. They will be available for the public on the Commission's eLibrary system seven calendar days after FERC receives the transcript. Additionally, Capitol Connection offers the opportunity for remote listening and viewing of the conference. It is available for a fee, live over the Internet, by phone or via satellite. Persons interested in receiving the broadcast or who need information on making arrangements should contact David Reininger or Julia Morelli at the Capitol Connection (703-993-3100) as soon as possible or visit the Capitol Connection Web site at http://www.capitolconnection.org and click on “FERC.”

FERC conferences are accessible under section 508 of the Rehabilitation Act of 1973. For accessibility accommodations please send an e-mail to accessibility@ferc.gov or call toll free 866-208-3372 (voice) or 202-208-1659 (TTY), or send a FAX to 202-208-2106 with the required accommodations.

For additional information, please contact Morris Margolis at (202) 502-8611; morris.margolis@ferc.gov, or Sarah McKinley at (202) 502-8004; sarah.mckinley@ferc.gov.

Magalie R. Salas,
Secretary.

[FR Doc. E5-2703 Filed 5-26-05; 8:45 am]

BILLING CODE 6717-01-P